INTERNATIONAL TRADE COMMISSION

[Investigation No. 731-TA-860 (Second Review)]

Tin- and Chromium-Coated Steel Sheet From Japan

Determination

On the basis of the record ¹ developed in the subject five-year review, the United States International Trade Commission (Commission) determines, pursuant to section 751(c) of the Tariff Act of 1930 (19 U.S.C. 1675(c)), that revocation of the antidumping duty order on tin- and chromium-coated steel sheet from Japan would be likely to lead to continuation or recurrence of material injury to an industry in the United States within a reasonably foreseeable time.

¹ The record is defined in sec. 207.2(f) of the Commission's Rules of Practice and Procedure (19 CFR 207.2(f)).

Background

The Commission instituted this review on June 1, 2011 (76 FR 31633) and determined on September 6, 2012, that it would conduct a full review (76 FR 58536, September 21, 2011). Notice of the scheduling of the Commission's review and of a public hearing to be held in connection therewith was given by posting copies of the notice in the Office of the Secretary, U.S. International Trade Commission, Washington, DC, and by publishing the notice in the Federal Register on December 9, 2011 (76 FR 77013). The hearing was held in Washington, DC, on April 11, 2012, and all persons who requested the opportunity were permitted to appear in person or by counsel.

The Commission transmitted its determination in this review to the Secretary of Commerce on May 25, 2012. The views of the Commission are contained in USITC Publication 4325 (May 2012), entitled Tin- and Chromium-Coated Steel Sheet from Japan: Investigation No. 731-TA-860 (Second Review).

By order of the Commission.
Issued: May 29, 2012.
James R. Holbein,
Secretary to the Commission.

[FR Doc. 2012-13391 Filed 6-1-12; 8:45 am]

BILLING CODE 7020-02-P